DEPARTMENT OF DEFENSE

Department of the Army; Corps of Engineers

Joint Notice of Availability for the Coastal Texas Protection and Restoration Study Draft Integrated Feasibility Report and Environmental Impact Statement

AGENCY: Department of the Army, U.S. Army Corps of Engineers, DoD.

ACTION: Notice of availability.

SUMMARY: Pursuant to the National Environmental Policy Act (NEPA), the U.S. Army Corps of Engineers, Galveston District (USACE) announces the release of the Draft Integrated Feasibility Report and Environmental Impact Statement (DIFR-EIS) for the Tentatively Selected Plan (TSP) of the Coastal Texas Protection and Restoration Study, Texas. The DIFR-EIS documents the existing condition of environmental resources in and around areas considered for development, and potential impacts on those resources as a result of implementing the alternatives.

This public notice is also issued for the purpose of advising all known interested parties that there is pending before the Texas Commission on Environmental Quality (TCEQ) a decision on water quality certification. A copy of the public notice, with a description of work, has been made available for review in the TCEQ's Austin office.

DATES: USACE will accept written public comments on the DIFR-EIS from October 26, 2018 to January 9, 2019. Comments on the DIFR-EIS must be postmarked by January 9, 2019.

ADDRESSES: Public comments can be mailed to: USACE, Galveston District, Attn: Mrs. Jennifer Morgan, Environmental Compliance Branch, Regional Planning and Environmental Center, P.O. Box 1229, Galveston, TX 77553-1229 or emailed to CoastalTexas@usace.army.mil. See website: http://coastalstudy.texas.gov/ for additional information.

FOR FURTHER INFORMATION CONTACT: Mrs. Jennifer Morgan, (409) 766-3131.

SUPPLEMENTARY INFORMATION:

Authority: The lead agency for this proposed action is the USACE. This study has been prepared under the standing authority of Section 4091, Water Resources Development Act of 2007, Public Law 110-114. The non-Federal sponsor is the Texas General Land Office.

Background: This DIFR-EIS was prepared as required by the National Environmental Policy Act (NEPA) to present an evaluation of potential impacts associated with the Coastal Texas Protection and Restoration Feasibility Study (Coastal Texas) TSP. The USACE and the non-Federal sponsor for the study, the Texas General Land Office (GLO), have conducted this study and prepared the DIFR-EIS.

The study area for the Coastal Texas Study consists of the entire Texas Gulf coast from the mouth of the Sabine River to the mouth of the Rio Grande, and includes the Gulf and tidal waters, barrier islands, estuaries, coastal wetlands, rivers and streams, borrow sources, and adjacent areas that make up the interrelated ecosystems along the coast of Texas. The study area encompasses 18 coastal counties along the Gulf coast and bayfronts.

This report presents the proposed alternatives that would reduce the risk of storm damage to industries and businesses critical to the Nation's economy and protect the health and safety of Texas coastal communities. The study analyzed alternatives that involved structural and nonstructural measures. Additionally, the report discusses alternatives intended to address critical coastal ecosystems in need of restoration, including wetlands, seagrass beds, sea turtle nesting habitat, piping plover critical habitat, and bird rookery islands, as well as numerous Federal and State wildlife refuges.

Tentatively Selected Plan: The TSP consists of the Coastal Barrier Coastal Storm Risk Management (CSRM) System, South Padre Island CSRM measure, and a comprehensive set of ecosystem restoration (ER) measures. The Coastal Barrier is a risk reduction system made up of the following features: Floodwalls, floodgates, seawall improvements, drainage structures, pump stations, and surge barrier gates. One fundamental feature of the TSP is surge barrier structures that include floating sector gates for navigation traffic and environmental lift gates across the span at Bolivar Roads between Bolivar Peninsula and Galveston Island. The alternative includes four reaches: Eastern Tie-in Reach, Bolivar Peninsula Reach, Galveston Ring Levee/Floodwall Reach, and West Galveston Island Reach in addition to features located at Clear Creek Channel and Dickinson Bayou. The South Padre Island CSRM measure consists of approximately 2.2 miles of dune and beach restoration along the barrier island on the Gulf, including renourishment cycles. The ER component of the TSP has been formulated to address the habitat loss and degradation from coastal processes. ER measures restore and create habitat and support structural CSRM efforts by providing a natural buffer from coastal storms. ER measures proposed in this study include a combination of features formulated in specific geographic locations to restore diverse habitats and coastal features that provide multiple lines of defense against coastal storms and long term coastal processes. Restoration measures include beach and dune complexes, oyster reefs, bird rookery islands, wetland and marsh complexes, and protection of submerged aquatic vegetation.

A final decision will be made following the reviews and higher-level coordination within the USACE to select a plan for feasibility-level design and recommendation for implementation. The decision will be documented in the Final Integrated Feasibility Report (FIFR)-EIS. Coordination with the natural resource agencies will continue throughout the study process.

Project Impacts and Environmental Compliance: Preliminary studies indicate that the recommended plan's surge barrier gates (proposed as features of the Coastal Barrier) may alter wetland functions by constricting tidal exchange and associated sediment transport, altering hydrosalinity gradients, reducing flow into and out of Galveston Bay, and increasing velocities near the gate openings at specific times. The TSP was formulated to reduce the risk of damages from coastal storms as well as avoid disturbance to environmentally significant resources. Where impacts could not be avoided, they were quantified, and a conceptual mitigation plan was formulated. Impacts would be fully compensated with the restoration of palustrine and estuarine emergent marsh in the amount determined during final feasibility planning. The Coastal Barrier would provide a level of protection to tidal and freshwater wetlands north of the barrier location by serving as a physical barrier against storm surge during coastal storms. The South Padre Island CSRM feature would restore the beach and dune complex; therefore, providing reduced risk to the area while sustaining and increasing beach habitat, and helping preserve existing wetland habitat on the bayside of the measure. Ecosystem restoration measures would restore the natural features of the Texas coast that provide habitat for many Federally threatened and endangered species and State species of concern. These measures will also maintain a natural buffer for upland areas from coastal processes, relative sea level rise (RSLR), and storm surge, while stabilizing the coastline by absorbing energy from waves and vessel wakes.

The DIFR-EIS presents an evaluation of the potential impacts to soils, waterbottoms, water quality, protected wildlife species, benthic organisms, essential fish habitat, coastal barrier resources, air quality, and noise. Additionally, potential impacts to floodplains, flood control, protected/managed lands, and minority or low-income populations have been evaluated. Steps would be taken to avoid, minimize, and mitigate any potential impacts to the best extent practicable. The USACE is proposing to execute a Programmatic Agreement among USACE, the Texas State Historic Preservation Office, and any NFS, in coordination with the Advisory Council on Historic Preservation and Tribal Nations, to address the identification and discovery of cultural resources that may occur during the construction and maintenance of proposed or existing facilities.

Solicitation of Comments: The USACE is soliciting comments from the public, Federal, State, and local agencies, elected officials, Tribal Nations, and other interested parties in order to consider and evaluate the impacts of this proposed activity. Comments will be used in preparation of the FIFR-EIS. Any comments concerning water quality certification may be submitted to the TCEQ, 401 Coordinator, MSC-150, P.O. Box 13087, Austin, Texas 78711-3087.

Meetings: The Galveston District will hold public meetings at 5:30 p.m. for the DIFR-EIS on the following dates and locations: November 27, 2018 at Bauer Community Center, 2300 TX-35, Port Lavaca, TX 77979; November 28, 2018 at Harte Research Institute at Texas A&M Corpus Christi, 6300 Ocean Dr., Corpus Christi, TX 78412; November 29, 2018 at Port Isabel Event & Cultural Center, 309 Railroad Ave., Port Isabel, TX 78578; December 11, 2018 at Winnie Community Building, 335 South Park St., Winnie, TX 77665; December 12, 2018 at Galveston Island Convention Center, 5600 Seawall Blvd., Galveston, TX 77551; and December 18, 2018 at Bay Area Community Center, 5002 E NASA Parkway, Seabrook, TX 77586.

Document Availability: Compact disc copies of the DIFR-EIS are available for viewing at county libraries throughout the 18 county study area. The document can also be viewed and downloaded from the Galveston District website: http://www.swg.usace.army.mil/Business-With-Us/Planning-Environmental-Branch/Documents-for-Public-Review/.

Lars N. Zetterstrom,
Colonel, U.S. Army, Commanding.

[FR Doc. 2018-23450 Filed 10-25-18; 8:45 am]

BILLING CODE 3720-58-P